DEPARTMENT OF THE INTERIOR

Fish and Wildlife Service

[FWS-R8-ES-2013-N247; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before March 24, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-157216

Applicant: United States Geological Survey, Dixon, California

The applicant requests an amendment to a permit to take (harass by palpation of captured individuals for stomach contents) the San Francisco garter snake (Thamnophis sirtalis tetrataenia) in conjunction with scientific research activities throughout the range of the species in California for the purpose of enhancing the species' survival.

Permit No. TE-207867

Applicant: Michael A. Richard, Orange, California

The applicant requests a permit renewal to take (survey, capture, handle, and release) the San Bernardino kangaroo rat (Dipodomys merriami parvus) in conjunction with survey activities throughout the range of the species in California for the purpose of enhancing the species' survival.

Permit No. TE-095860

Applicant: Veronica A. Wunderlich, Pleasant Hill, California

The applicant requests a permit renewal to take (harass by survey, capture, handle, and release) the California tiger salamander (Sonoma County Distinct Population Segment (DPS)) (Ambystoma californiense) in conjunction with survey activities throughout the range of the species in California for the purpose of enhancing the species' survival.

Permit No. TE-095858

Applicant: Arianne B. Preite, Orange, California

The applicant requests a permit renewal to take (survey by pursuit) the Quino checkerspot butterfly (Euphydryas editha quino); take (survey and monitor nests) the southwestern willow flycatcher (Empidonax traillii extimus); take (harass by survey) the light-footed clapper rail (Rallus longirostris levipes) and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-217663

Applicant: Ann M. Dalkey, Redondo Beach, California

The applicant requests a permit renewal to take (survey by pursuit) the Palos Verdes blue butterfly (Glaucopsyche lygdamus palosverdesensis) and El Segundo blue butterfly (Euphilotes battoides allyni) in conjunction with surveys throughout the range of each species in California for the purpose of enhancing the species' survival.

Permit No. TE-31406A

Applicant: California State Parks, Ventura, California

The applicant requests a permit renewal to take (harass by survey, locate and monitor nests, and install symbolic fencing) the California least tern (Sternula antillarum browni) (Sterna a. b.) in conjunction with survey and nest monitoring activities in Ventura County, California, for the purpose of enhancing the species' survival.

Permit No. TE-844030

Applicant: Arthur E. Davenport, Barstow, California

The applicant requests a permit renewal to take (locate and monitor nests) the least Bell's vireo (Vireo bellii pusillus); take (harass by survey and locate and monitor nests) the southwestern willow flycatcher (Empidonax traillii extimus); take (harass by survey) the Yuma clapper rail (Rallus longirostris yumanensis) and light-footed clapper rail (Rallus longirostris levipes); take (capture, handle, and release) the Stephens' kangaroo rat (Dipodomys stephensi), San Bernardino kangaroo rat (Dipodomys merriami parvus), Pacific pocket mouse (Perognathus longimembris pacificus), arroyo toad (arroyo southwestern) (Anaxyrus californicus (Bufo microscaphus c.), and desert pupfish (Cyprinodon macularius); and take (survey by pursuit) the Quino checkerspot butterfly (Euphydryas editha quino) in conjunction with surveys, research, and population monitoring activities within the range of each species as specified in the permit, in Los Angeles, Imperial, San Bernardino, Riverside, Orange, San Diego, Santa Barbara, Ventura, Kern, Inyo, Monterey, San Benito, and Santa Clara Counties, California, and in Clark, Lincoln, and Nye Counties, Nevada, for the purpose of enhancing the species' survival.

Permit No. TE-781084

Applicant: Anita M. Hayworth, Encinitas, California

The applicant requests a permit renewal to take (harass by survey and locate and monitor nests) the southwestern willow flycatcher (Empidonax traillii extimus); take (locate and monitor nests) the least Bell's vireo (Vireo bellii pusillus); take (survey by pursuit) the Quino checkerspot butterfly (Euphydryas editha quino); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and population monitoring activities throughout the range of each species in California for the purpose of enhancing the species' survival.

Permit No. TE-844030

Applicant: Eda C. Eggeman, Redding, California

The applicant requests a permit renewal to take (capture, collect, and collect vouchers) the Conservancy fairy shrimp (Branchinecta conservatio) and vernal pool tadpole shrimp (Lepidurus packardi) in conjunction with survey activities throughout the range of each species in Shasta and Tehama Counties, California, for the purpose of enhancing the species' survival.

Permit No. TE-051248

Applicant: Paul M. Lemons, San Diego, California

The applicant requests a permit renewal to take (harass by survey) the southwestern willow flycatcher (Empidonax traillii extimus); take (survey by pursuit) the Quino checkerspot butterfly (Euphydryas editha quino); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species as specified in the permit in California, Nevada, Arizona, New Mexico, and Utah for the purpose of enhancing the species' survival.

Permit No. TE-72045A

Applicant: Alisa C. Zych, Cardiff by the Sea, California

The applicant requests a permit amendment to take (harass by survey) the southwestern willow flycatcher (Empidonax traillii extimus) in conjunction with survey activities throughout the range of the species in California for the purpose of enhancing the species' survival.

Permit No. TE-045153

Applicant: Dustin S. Janeke, San Diego, California

The applicant requests a permit renewal to take (survey by pursuit) the Quino checkerspot butterfly (Euphydryas editha quino); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-795934

Applicant: ICF Jones and Stokes, Incorporated, Sacramento, California

The applicant requests a permit renewal to take (harass by survey) the southwestern willow flycatcher (Empidonax traillii extimus), delta smelt (Hypomesus transpacificus), and California tiger salamander (Santa Barbara County DPS and Sonoma County DPS) (Ambystoma californiense); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species as specified in the permit in California and Oregon for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-03601 Filed 2-19-14; 8:45 am]

BILLING CODE 4310-55-P